INTERNATIONAL TRADE COMMISSION

[Investigation No. 332-449]

U.S. Market Conditions for Certain Wool Articles in 2002-04

AGENCY: International Trade Commission.

ACTION: In accordance with the provisions of the Paperwork Reduction Act of 1995 (44 U.S.C. chapter 35), the Commission has submitted a request for emergency processing for review and clearance of questionnaires to the Office of Management and Budget (OMB). The Commission has requested OMB approval of this submission by COB February 13, 2004.

EFFECTIVE DATE: December 19, 2003.

Purpose of Information Collection: The forms are for use by the Commission in connection with its second (and final) report on investigation No. 332-449, U.S. Market Conditions for Certain Wool Articles in 2002-04, instituted under the authority of section 332(g) of the Tariff Act of 1930 (19 U.S.C. 1332(g)). This investigation was requested by the United States Trade Representative (USTR), which asked that the Commission submit the report by September 15, 2004. As requested by the USTR, the Commission will provide information for 2003 and year-to-date 2003-04 on U.S. market conditions for men's and boys' worsted wool tailored clothing, worsted wool fabrics used in such clothing, and inputs used in such fabrics (see the Commission's Notice of Investigation, published in the Federal Register on February 4, 2003 (68 FR 5652) for further information on the investigation).

Summary of Proposal

(1) Number of forms submitted: 2.

(2) Title of forms: Questionnaire for U.S. Producers of Worsted Wool Fabrics and Questionnaire for U.S. Purchasers of Worsted Wool Fabrics.

(3) Type of request: reinstatement with change.

(4) Frequency of use: one-time use.

(5) Description of respondents: U.S. producers and purchasers of worsted wool fabrics.

(6) Estimated number of respondents: 40 (4 producers and 36 purchasers).

(7) Estimated total number of hours to complete the forms: 1,160 hours.

(8) Information obtained from the forms that qualifies as confidential business information will be so treated by the Commission and not disclosed in a manner that would reveal the individual operations of a firm.

FOR FURTHER INFORMATION CONTACT: Copies of the forms and supporting documents may be obtained from Jackie W. Jones (202-205-3466; jones@usitc.gov) of the Office of Industries, U.S. International Trade Commission. Comments about the proposals should be directed to the Office of Management and Budget, Office of Information and Regulatory Affairs, Room 10102 (Docket Library), Washington, DC 20503, ATTENTION: Docket Librarian. All comments should be specific, indicating which part of the questionnaire is objectionable, describing the concern in detail, and including specific suggested revisions or language changes. Copies of any comments should be provided to Robert Rogowsky, Director, Office of Operations, U.S. International Trade Commission, 500 E Street SW, Washington, DC 20436, who is the Commission's designated Senior Official under the Paperwork Reduction Act.

Hearing impaired individuals may obtain information on this matter by contacting the Commission's TTD terminal on 202-205-1810. General information about the Commission may be obtained by accessing its Internet server (http://www.usitc.gov).

Issued: January 14, 2004.
By order of the Commission.
Marilyn R. Abbott,
Secretary.

[FR Doc. 04-1128 Filed 1-16-04; 8:45 am]

BILLING CODE 7020-02-P